DEPARTMENT OF DEFENSE

Defense Acquisition Regulations System

48 CFR Parts 222, 232, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update section headings, Internet addresses, and cross-references.

dates: Effective Date: May 12, 2006.

FOR FURTHER INFORMATION CONTACT: Ms. Michele Peterson, Defense Acquisition Regulations System, OUSD(AT&L)DPAP(DARS), IMD 3C132, 3062 Defense Pentagon, Washington, DC 20301-3062. Telephone (703) 602-0311; facsimile (703) 602-0350.

SUPPLEMENTARY INFORMATION:

This final rule amends DFARS text as follows:

• Section 222.101-3. Corrects a typographical error in the final rule published at 71 FR 18669 on April 12, 2006, under DFARS Case 2003-D019.

• Sections 232.7003 and 252.232-7003. Updates the Internet address for locating electronic data interchange implementation guides. A corresponding change is made to the clause at 252.212-7001.

• Section 252.232-7007. Updates cross-references to a paragraph that was redesignated in the final rule published at 71 FR 18671 on April 12, 2006, under DFARS Case 1990-037.

List of Subjects in 48 CFR Parts 222, 232, and 252

Government procurement.

Michele P. Peterson,
Editor, Defense Acquisition Regulations System.

Therefore, 48 CFR Parts 222, 232, and 252 are amended as follows:

1. The authority citation for 48 CFR Parts 222, 232, and 252 continues to read as follows:

Authority: 41 U.S.C. 421 and 48 CFR Chapter 1.

PART 222—LABOR LAWS

222.101-3 Reporting labor disputes.

2. The heading of section 222.101-3 is revised to read as set forth above.

PART 232—CONTRACT FINANCING

232.7003 [Amended]

3. Section 232.7003 is amended in paragraph (a)(3) by removing “http://www.dfas.mil/ecedi” and adding in its place “http://www.dod.mil/dfas/”.

PART 252—SOLICITATION PROVISIONS AND CONTRACT CLAUSES

252.212-7001 [Amended]

4. Section 252.212-7001 is amended as follows:

a. By revising the clause date to read “(MAY 2006)”; and

b. In paragraph (b), in entry 252.232-7003, by removing “(JAN 2004)” and adding in its place “(MAY 2006)”.

252.232-7003 [Amended]

5. Section 252.232-7003 is amended as follows:

a. By revising the clause date to read “(MAY 2006)”; and

b. In paragraph (b)(3)(ii) by removing “http://www.dfas.mil/ecedi” and adding in its place “http://www.dod.mil/dfas/”.

252.232-7007 [Amended]

6. Section 252.232-7007 is amended by revising the clause date and Alternate I date to read “(MAY 2006)”; and by removing “paragraph (i)” and adding in its place “paragraph (j)”, in the following locations:

a. Paragraph (a), last sentence;

b. Paragraph (c), first, second, and third sentences; and

c. Alternate I, paragraph (a), last sentence.

[FR Doc. 06-4470 Filed 5-11-06; 8:45 am]

BILLING CODE 5001-08-P